DEPARTMENT OF EDUCATION

Notice Inviting Proposals for Ownership and Operation of the Online English Literacy Portal, “U.S.A. Learns Web Portal”

AGENCY: Office of Vocational and Adult Education, Department of Education.

ACTION: Notice inviting proposals for ownership and operation of the Online English Literacy Portal, “U.S.A. Learns Web Portal.”

SUMMARY: The President announced, as one of his initiatives to address border security and immigration challenges in the United States, a plan to have the U.S. Department of Education (Department) develop and launch a free, web-based portal to help immigrants learn English to help them expand their opportunities and make effective contributions to American society. To implement the President's plan, the Department's Office of Vocational and Adult Education (OVAE), as authorized by the Adult Education and Family Literacy Act and through a contract, has developed and created the U.S.A. Learns Web Portal, an online learning environment designed for limited English proficient (LEP) adults whose level of English proficiency is at a low level. The portal was launched on November 7, 2008, on the Internet and is available for use by the public at no cost. The portal is available at the following Web address: http://www.usalearns.org.

The Department plans to turn over ownership and operation of the portal to one or more entities outside of the Federal Government that would, with its or their own resources, continue the maintenance and upkeep of the portal, make improvements to it, and continue to make the portal available at no cost to the public. Through this notice, we are inviting proposals from entities interested in owning and operating the portal.

DATES: To ensure that your proposal receives consideration, it must be submitted to the Department no later than December 31, 2008. The Department would like to turn over ownership and operation of the portal by or about January 15, 2009.

Address for Submission of Proposals: Interested entities should submit a proposal for owning and operating the portal, addressing the factors and associated criteria outlined in this notice, by an express carrier or by e-mail to: Daniel Miller, Deputy Director, Division of Adult Education & Literacy, Office of Vocational and Adult Education, U.S. Department of Education, 550 12th Street, SW., 11th Floor, Washington, DC 20202-7240, or Daniel.Miller@ed.gov.

FOR FURTHER INFORMATION CONTACT: Daniel Miller, (202) 245-7731.

SUPPLEMENTARY INFORMATION:

Background

President Bush announced, in August 2007, a series of initiatives to address border security and immigration challenges in the United States. The President's plan consisted of 26 actions designed to secure the borders and to address needed immigration reforms. Action 26 of the plan stated: “The Department of Education Will Launch A Free, Web-Based Portal To Help Immigrants Learn English, And Expand This Model Over Time. Knowledge of English is the most important component of assimilation. An investment in tools to help new Americans learn English will be repaid many times over in the contributions these immigrants make to our political discourse, economy, and society.” A fact sheet with information about the President's plan to secure the borders and to address needed immigration reforms, including the plan for a portal is at the following Internet address: http://www.whitehouse.gov/news/releases/2007/08/20070810.html.

To fulfill the President's plan, OVAE, through a contract, designed and created the U.S.A. Learns Web Portal (http://www.usalearns.org), an online learning environment for LEP adults. This contract and the ensuing project to design and implement the portal are authorized under the Adult Education and Family Literacy Act, Title II of Public Law 105-220, Section 243, National Leadership Activities (20 U.S.C. 9253). The portal was launched on November 7, 2008, on the Internet and is available for use by the public at no cost.

The Department intends, through an appropriate agreement or agreements signed by the Department and the selected entity or entities, setting forth the rights and responsibilities of each party, to transfer ownership and operation of the portal to an entity or entities outside of the Federal Government, which would support the portal with the entity's or entities' own resources. The agreement will include, among other things, a privacy policy that protects the privacy of the users of the portal, and limits the use of data about the users by the entity or entities selected.

The Department is registering the U.S.A. Learns Web Portal trademark, and, as part of the agreement, will also license the use of its trademark to the entity or entities selected. The Department will also license the use of the domain name for the portal to the entity or entities selected, or to one of the entities selected.

The Department believes that the effectiveness of the portal will be enhanced by an outside entity or entities taking responsibility for the portal's ownership and continued operation. We expect to provide the entity or entities selected with information we have gathered on the early use of the portal, including the costs of operation, in order to help it or them maintain, operate, and enhance the portal effectively. We believe that turning over ownership and operation of the portal to an entity or entities outside the Federal Government will provide long-lasting benefits to the intended audience and to the Nation.

Responsibilities of the Selected Entity or Entities

The duties of the portal owner or owners will include, at a minimum: maintaining the portal in at least the same condition in which it was received; making it readily available at all times to the public at no cost; solving any implementation problems to keep the portal running in at least the same condition in which it was received; enhancing the quality of the content made available through the portal; and making improvements to the operation of the portal, as appropriate. A link to additional information on the portal, on such matters as its functionalities, operating standards, and capacity, will be made available in the near future on the Department's Internet Web site at the following address: http://www.ed.gov/about/offices/list/ovae/pi/AdultEd/index.html.

Based on these general expectations, an entity interested in acquiring ownership of the portal should submit a proposal that addresses the following key factors, which should demonstrate the organization's commitment to, and ability to facilitate, adult literacy, distance learning, and effective management of the portal:

Key Factors

• A commitment to helping improve adult literacy.

• A substantive interest in the goals of the U.S.A. Learns Web Portal and an expertise in the interests of LEP adults, especially those with low levels of English proficiency, the subgroup that the Department has targeted as likely users of the portal.

• The technological infrastructure and other resources to operate and maintain the U.S.A. Learns Web Portal and make the portal available to the public free of charge.

• Staff expertise in Web site development, maintenance, and on-line instruction.

• A plan to use an advisory committee with appropriate expertise to help the entity administer the portal.

Note: The offeror has significant flexibility in deciding on the composition of the advisory committee.

• Fiscal and management responsibility.

The Department will use the following criteria to evaluate how well the proposals submitted in response to this notice address these factors:

Note: The maximum total score any proposal can receive is 100 points. The maximum score for each criterion is indicated in parentheses below.

Technical Approach (35 points)

• The extent to which the entity that submits a proposal (the “offeror”) demonstrates a commitment to adult literacy through previous projects and thorough knowledge of the field. (15 points)

• The extent to which the offeror has a thorough understanding of the target population and of how to provide appropriate instructional resources to that target population. (10 points)

• The extent to which the offeror describes a clear vision for the portal and plans for the enhancement and continued operation of U.S.A. Learns Web Portal. (10 points)

Organizational Capacity (30 points)

• The quality of the proposed project personnel, and the extent to which the personnel have the appropriate qualifications, competencies, and experience in the management of this type of portal or related distance learning mechanisms. (15 points)

• The extent to which the offeror has the technological and financial resources to maintain and operate U.S.A. Learns Web Portal and ensure that the portal is made available to the public free of charge. (15 points)

Management Plan (35 points)

• The extent to which the offeror provides a description of its plan for managing the project in a clear and sequential fashion, and the extent to which that plan provides credible evidence that the management of personnel, physical resources, activities, and work production will result in a robust portal with a 99.99 percent “uptime rate.” (20 points)

• The quality of the offeror's plans to establish and work with an advisory committee that has appropriate expertise to advise the offeror on its implementation of the project. (5 points)

• The extent to which the time commitments of the offeror's staff are appropriate to operating and maintaining U.S.A. Learns Web Portal. (5 points)

• The extent to which the offeror submitted a summary of a plan to evaluate the use and effectiveness of the portal, so that it can be improved. (5 points)

Other Requirements for the Content of Proposals

Proposals submitted in response to this notice also must include the following information:

• Name, address, and contact information for the entity submitting the proposal.

• Mission statement of the entity.

• Capability statement (must address the key factors and each component of the selection criteria).

• Entity's Web site URL.

• Annual report or similar report on the condition of the entity.

• Description of existing programs owned and operated by the entity that could support the goals of the U.S.A. Learns Web Portal.

• A signed assurance by an appropriate officer of the entity indicating that the entity agrees to own and operate the portal consistent with its proposal and with the purposes and provisions of this notice, and understands that, if it does not do so, the ownership of the portal, all content therein provided by the Department, and all databases needed to operate the portal will revert to the Department, which can award it to another entity or entities in accordance with a notice published in the Federal Register. The signed assurance shall acknowledge that the Department shall transfer its specific rights and interest in data and content of the portal. In addition, the assurance shall acknowledge that in the event of any reversion of the portal to the Department, the Department shall possess the rights and interest in data and content of the portal provided by the Department, including all databases needed to operate the portal. In the assurance the entity will also agree to submit semi-annual reports on the operation and use of the portal in such detail as the Department specifies in the agreement that the parties will sign.

Availability of Funds

There are no Federal funds available to support the portal once ownership and operation have been transferred from the Federal Government. It will be the sole responsibility of the selected entity or entities to bear all costs associated with ownership and operation of the portal.

Interests of the Federal Government

The Department will transfer ownership of the portal and its content to the entity or entities selected. The Department will transfer the rights and interest it possesses in data and content transferred to the entity or entities. In addition, as noted elsewhere in this notice, if the entity or entities selected operates the portal in a manner that is not consistent with its or their proposal or proposals and with the purposes and provisions of this notice, or if the entity or entities ceases to operate the portal, the ownership of the portal, all content therein provided by the Department, and all databases needed to operate the portal will revert to the Department, and the entity or entities will not be authorized to operate the portal. Upon such a reversion, the Federal Government shall possess the rights and interest in data and content of the portal originally provided by the Department, including all databases needed to operate the portal. Under these circumstances, the Department may award the ownership of the portal to another entity or entities in accordance with a notice published in the Federal Register.

Electronic Access to This Document: You can view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number: 84.191X Adult Education—National Leadership Activities)

Dated: November 25, 2008.
Troy R. Justesen,
Assistant Secretary for Vocational and Adult Education.

[FR Doc. E8-28478 Filed 11-28-08; 8:45 am]

BILLING CODE 4000-01-P